FEDERAL HOUSING FINANCE BOARD

[No. 2003-N-1]

Submission for OMB Review; Comment Request

AGENCY: Federal Housing Finance Board.

ACTION: Notice.

SUMMARY: In accordance with the requirements of the Paperwork Reduction Act of 1995, the Federal Housing Finance Board (Finance Board) hereby gives notice that it has submitted the information collection entitled “Community Support Requirements” to the Office of Management and Budget (OMB) for review and approval of a three-year extension of the OMB control number, which is due to expire on January 31, 2003.

DATES: Interested persons may submit comments on or before February 14, 2003.

ADDRESSES: Submit comments to the Office of Information and Regulatory Affairs of the Office of Management and Budget, Attention: Desk Officer for the Federal Housing Finance Board, Washington, DC 20503. Address requests for copies of the information collection and supporting documentation to Elaine L. Baker, Secretary to the Board, by telephone at 202/408-2837, by electronic mail at bakere@fhfb.gov, or by regular mail at the Federal Housing Finance Board, 1777 F Street, NW., Washington, DC 20006.

FOR FURTHER INFORMATION CONTACT: Emma Fitzgerald, Program Analyst, Community Investment and Affordable Housing Division, Office of Supervision, by telephone at 202/408-2874, by electronic mail at fitzgeralde@fhfb.gov, or by regular mail at the Federal Housing Finance Board, 1777 F Street, NW., Washington, DC 20006.

SUPPLEMENTARY INFORMATION:

A. Need For and Use of Information Collection

Section 10(g)(1) of the Federal Home Loan Bank Act (Bank Act) requires the Federal Housing Finance Board (Finance Board) to promulgate regulations establishing standards of community investment or service that Federal Home Loan Bank (FHLBank) members must meet in order to maintain access to long-term advances. See 12 U.S.C. 1430(g)(1). In establishing these community support requirements for FHLBank members, the Finance Board must take into account factors such as the FHLBank member's performance under the Community Reinvestment Act of 1977 (CRA), 12 U.S.C. 2901, et seq., and record of lending to first-time homebuyers. 12 U.S.C. 1430(g)(2). Part 944 of the Finance Board's regulations implements section 10(g) of the Bank Act. See 12 CFR part 944. The rule provides uniform community support standards all FHLBank members must meet and review criteria Finance Board staff must apply to determine compliance with section 10(g). More specifically, section 944.2 of the rule implements the statutory community support requirement. 12 CFR 944.2. Section 944.3 establishes community support standards for the two statutory factors—CRA and first-time homebuyer performance—and provides guidance to a respondent on how it may satisfy the standards. 12 CFR 944.3. Sections 944.4 and 944.5 establish the procedures and criteria the Finance Board uses in determining whether FHLBank members satisfy the statutory and regulatory community support requirements. 12 CFR 944.4 and 944.5.

The information collection contained in Form 96-01, the Community Support Statement Form, and sections 944.2 through 944.5 of the rule is necessary to enable and is used by the Finance Board to determine whether FHLBank members satisfy the statutory and regulatory community support requirements. Only FHLBank members that meet these requirements may maintain continued access to long-term FHLBank advances. See 12 U.S.C. 1430(g).

The OMB number for the information collection is 3069-0003. The OMB clearance for the information collection expires on January 31, 2003.

The likely respondents are institutions that are members of a FHLBank.

B. Burden Estimate

The Finance Board estimates that a total annual average of 3970 FHLBank members will file a Community Support Statement, with one submission per member. The estimate for the average hours per submission is one hour. The estimate for the total annual hour burden for members that must file a Community Support Statement is 3970 hours (3970 members × 1 submission per member × 1 hour).

The Finance Board estimates a total annual average of 15 FHLBank members will submit a request to remove a restriction on access to long-term advances, with 1 request per member. The estimate for the average hours per reinstatement request is one hour. The estimate for the annual hour burden for reinstatement requests is 15 hours (15 members × 1 request per member × approximately 1.0 hour).

The Finance Board estimates that the total annual hour burden for all respondents is 3985 hours ((3970 members × 1 Community Support Statement per member +15 members × 1 reinstatement request per member) × 1.0 hour).

C. Comment Request

In accordance with the requirements of 5 CFR 1320.8(d), the Finance Board published a request for public comments regarding this information collection in the Federal Register on October 15, 2002. See 67 FR 63660 (Oct. 15, 2002). The 60-day comment period closed on December 16, 2002. The Finance Board received one comment suggesting that it obtain CRA ratings from the Federal Financial Institution Examination Council (FFIEC) website instead of from members to reduce the reporting burden on members and eliminate in its entirety the reporting requirement for members with an “outstanding” CRA rating. At this time, obtaining CRA ratings from the FFIEC website is not an option because FFIEC generally reports CRA ratings three to six months after a CRA examination is completed while members receive the CRA rating immediately after an examination. Because of the delay in reporting on the FFIEC website, the Finance Board will continue to require members to report their most recent CRA rating on the Community Support Statement.

Written comments are requested on: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology. Comments may be submitted to OMB in writing at the address listed above.

By the Federal Housing Finance Board.
Dated: January 8, 2003.
Donald Demitros,
Chief Information Officer.

[FR Doc. 03-870 Filed 1-14-03; 8:45 am]

BILLING CODE 6725-01-P